DEPARTMENT OF AGRICULTURE

Animal and Plant Health Inspection Service

7 CFR Part 319

[Docket No. APHIS-2007-0111]

RIN 0579-AC87

Importation of Ash Plants

AGENCY: Animal and Plant Health Inspection Service, USDA.

ACTION: Affirmation of interim rule as final rule.

SUMMARY: We are adopting as a final rule, without change, an interim rule that amended the regulations governing the importation of nursery stock to prohibit or restrict the importation of ash (Fraxinus spp.) plants for planting, except seed, from all foreign countries except for certain areas in Canada that are not regulated areas for emerald ash borer. The interim rule was necessary to prevent further introductions of emerald ash borer into the United States and to prevent the artificial spread of this destructive plant pest.

DATES: Effective on December 18, 2008, we are adopting as a final rule the interim rule published at 73 FR 54665-54667 on September 23, 2008.

FOR FURTHER INFORMATION CONTACT: Dr. Arnold Tschanz, Senior Risk Manager, Commodity Import Analysis and Operations, PPQ, APHIS, 4700 River Road Unit 133, Riverdale, MD 20737-1231; (301) 734-5306.

SUPPLEMENTARY INFORMATION:

Background

The emerald ash borer (EAB, Agrilus planipennis) is a highly destructive wood-boring insect that attacks ash trees (Fraxinus spp., including green ash, white ash, black ash, and several horticultural varieties of ash). The insect, which is indigenous to Asia and known to occur in China, Korea, Japan, Mongolia, the Russian Far East, and Taiwan, eventually kills healthy ash trees after it bores beneath their bark and disrupts their vascular tissues. We do not know the full extent of the distribution of EAB throughout Asia and in other regions, nor do we know if there are other serious plant pests affecting Fraxinus spp. plants for planting present elsewhere in the world.

The regulations in 7 CFR part 319, “Foreign Quarantine Notices,” prohibit or restrict the importation of certain plants and plant products to prevent the introduction or dissemination of plant pests and noxious weeds in the United States. In an interim rule ¹ effective and published in the Federal Register on September 23, 2008 (73 FR 54665-54667, Docket No. APHIS-2007-0111), we amended the regulations in § 319.37-2(a) to prohibit imports of ash (Fraxinus spp.) plants for planting, except seed, from all foreign countries, with the exception of areas of Canada that are not regulated for EAB. To reflect that prohibition, we also amended § 319.37-7(a)(3) by removing Fraxinus spp. from the list of plants requiring postentry quarantine.

¹ To view the interim rule and the comment we received, go to http://www.regulations.gov/fdmspublic/component/main?main=DocketDetail&d=APHIS-2007-0111.

Comments on the interim rule were required to be received on or before November 24, 2008. We received one comment by that date. The comment was from a State entomologist who expressed support for the interim rule. Therefore, for the reasons given in the interim rule, we are adopting the interim rule as a final rule without change.

This action also affirms information contained in the interim rule concerning Executive Order 12866 and the Regulatory Flexibility Act, Executive Order 12988, and the Paperwork Reduction Act. Further, for this action, the Office of Management and Budget has waived its review under Executive Order 12866.

List of Subjects in 7 CFR Part 319

Coffee, Cotton, Fruits, Imports, Logs, Nursery stock, Plant diseases and pests, Quarantine, Reporting and recordkeeping requirements, Rice, Vegetables.

PART 319—FOREIGN QUARANTINE NOTICES

Accordingly, we are adopting as a final rule, without change, the interim rule that amended 7 CFR part 319 and that was published at 73 FR 54665-54667 on September 23, 2008.

Done in Washington, DC, this 12th day of December 2008.
Kevin Shea,
Acting Administrator, Animal and Plant Health Inspection Service.

[FR Doc. E8-30077 Filed 12-17-08; 8:45 am]

BILLING CODE 3410-34-P